DEPARTMENT OF HEALTH AND HUMAN SERVICES

National Institutes of Health

Center for Scientific Review; Amended Notice of Meeting

Notice is hereby given of a change in the meeting of the Center for Scientific Review Special Emphasis Panel, July 13, 2009, 8:30 a.m. to July 14, 2009, 6 p.m., The George Washington University Inn, 824 New Hampshire Avenue, NW., Washington, DC 20037 which was published in the Federal Register on June 26, 2009, 74 FR 30597-30598.

The meeting will be held August 10, 2009 to August 11, 2009. The meeting time and location remain the same.

The meeting is closed to the public.

Dated: July 20, 2009.
Jennifer Spaeth,
Director, Office of Federal Advisory Committee Policy.

[FR Doc. E9-17827 Filed 7-24-09; 8:45 am]

BILLING CODE 4140-01-P